Title 3—

The President

Executive Order 14007 of January 27, 2021

President's Council of Advisors on Science and Technology

By the authority vested in me as President by the Constitution and the laws of the United States of America, and in order to establish an advisory council on science, technology, and innovation, it is hereby ordered as follows:

Section 1. Policy. As directed in the Presidential Memorandum of January 27, 2021 (Scientific Integrity and Evidence-Based Policymaking), it is the policy of my Administration to make evidence-based decisions guided by the best available science and data. Officials and employees across my Administration shall seek from scientists, engineers, and other experts the best available scientific and technological information and advice.

Sec. 2. Establishment. (a) There is hereby established the President's Council of Advisors on Science and Technology (PCAST).

(b) The PCAST shall be composed of not more than 26 members. The Assistant to the President for Science and Technology (the “Science Advisor”) shall be a member of the PCAST. The Science Advisor, if also serving as the Director of the Office of Science and Technology Policy, may designate the U.S. Chief Technology Officer as a member. The remaining members shall be distinguished individuals and representatives from sectors outside of the Federal Government appointed by the President. These non-Federal members shall have diverse perspectives and expertise in science, technology, and innovation.

(c) The Science Advisor shall serve as a Co-Chair of the PCAST. The President shall also designate at least one, but not more than two, of the non-Federal members to serve as a Co-Chair, or Co-Chairs, of the PCAST with the Science Advisor. The Science Advisor may designate up to three Vice Chairs of the PCAST from among the non-Federal members of the PCAST, to support the Co-Chairs in the leadership and organization of the PCAST.

Sec. 3. Functions. (a) The PCAST shall advise the President on matters involving policy affecting science, technology, and innovation, as well as on matters involving scientific and technological information that is needed to inform public policy relating to the economy, worker empowerment, education, energy, the environment, public health, national and homeland security, racial equity, and other topics.

(b) The PCAST shall meet regularly and shall:

(i) respond to requests from the President or the Science Advisor for information, analysis, evaluation, or advice;

(ii) solicit information and ideas from a broad range of stakeholders, including the research community; the private sector; universities; national laboratories; State, local, and Tribal governments; foundations; and nonprofit organizations;

(iii) serve as the advisory committee identified in section 101(b) of the High-Performance Computing Act of 1991 (Public Law 102-194), as amended (15 U.S.C. 5511(b)), in which capacity the PCAST shall be known as the President's Innovation and Technology Advisory Committee; and

(iv) serve as the advisory panel identified in section 4 of the 21st Century Nanotechnology Research and Development Act (Public Law 108-153), as amended (15 U.S.C. 7503), in which capacity the PCAST shall be known as the National Nanotechnology Advisory Panel.

(c) The PCAST shall provide advice from the non-Federal sector to the National Science and Technology Council (NSTC) in response to requests from the NSTC.

Sec. 4. Administration. (a) The heads of executive departments and agencies shall, to the extent permitted by law, provide the PCAST with information concerning scientific and technological matters when requested by the PCAST Co-Chairs and as required for the purpose of carrying out the PCAST's functions.

(b) In consultation with the Science Advisor, the PCAST is authorized to create standing subcommittees and ad hoc groups, including technical advisory groups, to assist the PCAST and provide preliminary information directly to the PCAST.

(c) In order to allow the PCAST to provide advice and analysis regarding classified matters, the Science Advisor may request that members of the PCAST, its standing subcommittees, or ad hoc groups, who do not hold a current clearance for access to classified information, receive security clearance and access determinations pursuant to Executive Order 12968 of August 2, 1995 (Access to Classified Information), as amended, or any successor order.

(d) The Department of Energy shall provide such funding and administrative and technical support as the PCAST may require, to the extent permitted by law and within existing appropriations.

(e) Members of the PCAST shall serve without any compensation for their work on the PCAST, but may receive travel expenses, including per diem in lieu of subsistence, as authorized by law for persons serving intermittently in the government service (5 U.S.C. 5701-5707).

(f) Insofar as the Federal Advisory Committee Act, as amended (5 U.S.C. App.), may apply to the PCAST, any functions of the President under that Act, except that of reporting to the Congress, shall be performed by the Secretary of Energy, in accordance with the guidelines and procedures established by the Administrator of General Services.

Sec. 5. Termination. The PCAST shall terminate 2 years from the date of this order unless extended by the President.

Sec. 6. Revocation. Executive Order 13895 of October 22, 2019 (President's Council of Advisors on Science and Technology), is hereby revoked.

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 27, 2021.

[FR Doc. 2021-02176

Filed 1-29-21; 8:45 am]

Billing code 3295-F1-P